DEPARTMENT OF HEALTH AND HUMAN SERVICES

National Institutes of Health

Interagency Coordinating Committee on the Validation of Alternative Methods Communities of Practice Webinar on Non-Animal Approaches for Mixtures Assessment; Notice of Public Webinar; Registration Information

AGENCY: National Institutes of Health, HHS.

ACTION: Notice.

SUMMARY: The Interagency Coordinating Committee on the Validation of Alternative Methods (ICCVAM) announces a public webinar “Non-animal Approaches for Mixtures Assessment.” The webinar is organized on behalf of ICCVAM by the National Toxicology Program Interagency Center for the Evaluation of Alternative Toxicological Methods (NICEATM). Interested persons may participate via WebEx. Time will be allotted for questions from the audience. Information about the webinar and registration are available at https://ntp.niehs.nih.gov/go/commprac-2021.

DATES:

Webinar: January 26, 2021, 9:00 a.m. to approximately 11:00 a.m. EST.

Registration for Webinar: January 4, 2021, until 11:00 a.m. EST January 26, 2021.

Registration to view the webinar is required.

ADDRESSES: Webinar web page https://ntp.niehs.nih.gov/go/commprac-2021.

FOR FURTHER INFORMATION CONTACT: Dr. Nicole Kleinstreuer, Acting Director, NICEATM, Division of NTP, NIEHS, P.O. Box 12233, K2-16 Research Triangle Park, NC 27709. Phone: 984-287-3150, Email: Nicole.kleinstreuer@nih.gov. Hand Deliver/Courier address: 530 Davis Drive, Room K2032, Morrisville, NC 27560.

SUPPLEMENTARY INFORMATION:

Background: ICCVAM promotes the development and validation of toxicity testing methods that protect human health and the environment while replacing, reducing, or refining animal use. ICCVAM also provides guidance to test method developers and facilitates collaborations that promote the development of new test methods. To address these goals, ICCVAM will hold a Communities of Practice webinar on “Non-animal Approaches for Mixtures Assessment.”

While most available toxicity data are for single chemicals, humans are often exposed to chemicals as mixtures. Assessing the safety of a mixture is a complex process that requires consideration of both the toxicity of each chemical component of the mixture and the potential for interaction among the components to affect toxicity of the overall mixture. Additionally, most alternative methods and approaches used for assessing chemical safety are developed and evaluated using single chemicals. This can result in lack of clarity about whether a method is appropriate to use for assessing toxicity of a particular mixture.

This webinar will discuss new approach methodologies for assessing exposure to, and potential hazards associated with, chemical mixtures. Key insights and ongoing activities will be described in three presentations featuring speakers from U.S. federal research and regulatory agencies. The preliminary agenda and additional information about presentations will be posted at https://ntp.niehs.nih.gov/go/commprac-2021 as available.

Webinar and Registration: This webinar is open to the public with time scheduled for questions by participants following each presentation. Registration for the webinar is required and will be open from January 4, 2021, through 11:00 a.m. EST on January 26, 2021. Registration is available at https://ntp.niehs.nih.gov/go/commprac-2021. Interested individuals are encouraged to visit this web page to stay abreast of the most current webinar information. Registrants will receive instructions on how to access and participate in the webinar in the email confirming their registration.

Background Information on ICCVAM and NICEATM: ICCVAM is an interagency committee composed of representatives from 17 federal regulatory and research agencies that require, use, generate, or disseminate toxicological and safety testing information. ICCVAM conducts technical evaluations of new, revised, and alternative safety testing methods and integrated testing strategies with regulatory applicability. ICCVAM also promotes the scientific validation and regulatory acceptance of testing methods that more accurately assess the safety and hazards of chemicals and products and replace, reduce, or refine (enhance animal well-being and lessen or avoid pain and distress) animal use.

The ICCVAM Authorization Act of 2000 (42 U.S.C. 285l-3) establishes ICCVAM as a permanent interagency committee of NIEHS and provides the authority for ICCVAM involvement in activities relevant to the development of alternative test methods. Additional information about ICCVAM can be found at https://ntp.niehs.nih.gov/go/iccvam.

NICEATM administers ICCVAM, provides scientific and operational support for ICCVAM-related activities, and conducts and publishes analyses and evaluations of data from new, revised, and alternative testing approaches. NICEATM and ICCVAM work collaboratively to evaluate new and improved testing approaches applicable to the needs of U.S. federal agencies. NICEATM and ICCVAM welcome the public nomination of new, revised, and alternative test methods and strategies for validation studies and technical evaluations. Additional information about NICEATM can be found at https://ntp.niehs.nih.gov/go/niceatm.

Dated: January 6, 2021.
Brian R. Berridge,
Associate Director, National Toxicology Program.

[FR Doc. 2021-00227 Filed 1-8-21; 8:45 am]

BILLING CODE 4140-01-P